DEPARTMENT OF TRANSPORTATION

Surface Transportation Board

[STB Finance Docket No. 34327]

Richard J. Corman—Continuance in Control Exemption—R.J. Corman Railroad Company/Central Kentucky Lines

Richard J. Corman (Corman), a noncarrier individual, has filed a verified notice of exemption to continue in control of R.J. Corman Railroad Company/Central Kentucky Lines (RJCC), upon RJCC's becoming a Class III rail carrier.

Corman reported that the parties intended to consummate the transaction on or soon after March 28, 2003, the effective date of the exemption (7 days after the exemption was filed).

This transaction is related to two simultaneously filed notices of exemption: STB Finance Docket No. 34325, R.J. Corman Equipment Company, LLC-Acquisition Exemption-Line of Lexington & Ohio Railroad Co., Inc., wherein R.J. Corman Equipment Company, LLC (RJCE) seeks to acquire approximately 14.9 miles of rail line from the Lexington & Ohio Railroad Co., Inc.; and STB Finance Docket No. 34326, R.J. Corman Railroad Company/Central Kentucky Lines-Lease and Operation Exemption—Line of R. J. Corman Equipment Company, LLC, wherein R.J. Corman Railroad Company/Central Kentucky Lines seeks to lease and operate the rail line being acquired by RJCE in STB Finance Docket No. 34325.

Corman controls through stock ownership eight Class III rail carriers: R.J. Corman Railroad Company/Pennsylvania Lines, Inc., operating in Pennsylvania; R.J. Corman Railroad Company/Memphis Line, operating in Tennessee and Kentucky; R.J. Corman Railroad Company/Western Ohio Line, operating in Ohio; R.J. Corman Railroad Company/Cleveland Line operating in Ohio; R.J. Corman Railroad Company/Bardstown Line, operating in Kentucky; R.J. Corman Railroad Company/Allentown Lines, Inc., operating in Pennsylvania and New York; Clearfield and Mahoning Railway Company, operating in Pennsylvania; and R.J. Corman Equipment Company, LLC, a nonoperating common carrier which owns and leases track in Kentucky and Ohio.

Corman states that the rail line to be leased and operated by RJCC will not connect with the rail lines of any existing rail carrier in the Corman corporate family, this control transaction is not part of a series of anticipated transactions that would result in such a connection, and this control transaction does not involve a Class I carrier. Therefore, the transaction is exempt from the prior approval of requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the transaction.

An original and 10 copies of all pleadings referring to STB Finance Docket No. 34327, must be filed with the Surface Transportation Board, 1925 K Street, NW., Washington, DC 20423-0001. In addition, a copy of each pleading must be served on Edward J. Fishman, Kirkpatrick & Lockhart LLP, 1800 Massachusetts Avenue—2nd Floor, Washington, DC 20036.

Board decisions and notices are available on our Web site at http://www.stb.dot.gov.

Decided: April 4, 2003.
By the Board, David M. Konschnik, Director, Office of Proceedings.
Vernon A. Williams,
Secretary.

[FR Doc. 03-8925 Filed 4-11-03; 8:45 am]

BILLING CODE 4915-00-P